DEPARTMENT OF COMMERCE

United States Patent and Trademark Office

Submission for OMB Review; Comment Request

The United States Patent and Trademark Office (USPTO) has submitted to the Office of Management and Budget (OMB) for clearance the following proposal for collection of information under the provisions of the Paperwork Reduction Act (44 U.S.C. Chapter 35).

Agency: United States Patent and Trademark Office (USPTO).

Title: Initial Patent Application.

Form Numbers: PTO/SB/01/01A/02A/02B/02C/03/03A/04/05/06/07/13PCT/17/18/19/29/29A/101/102/103/104/105/106/107/108/109/110.

Agency Approval Number: 0651-0032.

Type of Request: Revision of a currently approved collection.

Burden: 2,990,260 hours.

Number of Respondents: 344,100 responses.

Avg. Hours Per Response: The PTO estimates that it takes an average of 24 minutes to gather, prepare, and submit a continued prosecution application. This is in contrast to the 12 minutes that the USPTO estimates that it will take the public to gather, prepare, and submit a request for continued examination. The USPTO estimates that approximately 10,000 of the 25,000 continued prosecution applications will be filed as requests for continued examination. The estimated use of the request for continued examination will decrease the burden associated with this information collection. The USPTO estimates that it takes an average of 8.0 hours to complete the specification, claim, drawing, and cover sheet required for a provisional application, and that it takes an average of 10.8 hours to complete the specification, claim, drawing, declaration, and transmittal forms required for a nonprovisional utility, plant or design application. If applicants choose to submit their patent application using the application data sheet, the USPTO estimates that it will take an average of 10.6 hours to complete the application using either the paper or electronic format, unless it is the first time that the applicant is using the PrintEFS format. If that is the case, the USPTO estimates that it will take an average of 11.3 hours to complete the application. This takes into account the time that the USPTO estimates it will take the applicant to download and install the viewer that is necessary to use the electronic template. Continuing applications require varying burden hours, based on how much information must be added to or duplicated from the initial application. In the case of continuation requests for international applications, the entire application must be provided because it had not been submitted previously as a national application.

Needs and Uses: This collection of information is required by 35 U.S.C. §§ 131 and 37 CFR 1.16 through 1.84. The public uses the forms in this information collection to submit the information necessary for a new utility, design, or plant applications. This includes such information as the declaration, fee transmittal sheets, and the bibliographic data. The USPTO uses the information collected through this information collection to review and issue new utility, design, and plant applications and to process requests for continuation or provisional applications.

Affected Public: Individuals or households, businesses or other for-profit, not-for-profit institutions, farms, Federal government, and state, local or tribal government.

Frequency: On occasion.

Respondent's Obligation: Required to obtain or retain benefits.

OMB Desk Officer: David Rostker, (202) 395-3897.

Copies of the above information collection proposal can be obtained by calling or writing Thao Nguyen, Manager, Data Administration Division (Acting Records Officer), (703) 308-7397, Data Administration Division, Office of Data Management, United States Patent and Trademark Office, Crystal Park 3, 3rd Floor, Suite 310, Washington, D.C. 20231 or via the Internet at (Thao.Nguyen@uspto.gov).

Written comments and recommendations for the proposed information collection should be sent within 30 days of publication to David Rostker, OMB Desk Officer, Room 10236, New Executive Office Building, 725 17th Street, N.W., Washington, D.C. 20503.

Dated: June 16, 2000.
Thao Nguyen,
Manager, Data Administration Division (Acting Records Officer), Office of Data Management.

[FR Doc. 00-16023 Filed 6-23-00; 8:45 am]

BILLING CODE 3510-16-P